DEPARTMENT OF HEALTH AND HUMAN SERVICES

Centers for Medicare & Medicaid Services

[CMS-1245-N]

Medicare Program; Request for Nominations to the Advisory Panel on Ambulatory Payment Classifications Groups

AGENCY: Centers for Medicare & Medicaid Services, Department of Health & Human Services.

ACTION: Notice.

SUMMARY: This notice invites nominations of members to the Advisory Panel on Ambulatory Payment Classification (APC) Groups (the Panel). There will be six vacancies on the Panel as of March 31, 2003. The purpose of the Panel is to review the APC groups and their associated weights and to advise the Secretary of Health and Human Services and the Administrator of the Centers for Medicare & Medicaid Services concerning the clinical integrity of these groups and weights, which are major elements of the hospital outpatient prospective payment system. The Panel was recently rechartered for a 2-year period through November 21, 2004.

Nominations: Nominations will be considered if received at the appropriate address, which is provided below, no later than 5 p.m. e.s.t. March 31, 2003. Mail or deliver nominations to the following address: CMS, Center for Medicare Management, Hospital & Ambulatory Policy Group, Division of Outpatient Care, Attention: Paul Rudolf, M.D., J.D., Chairman, Advisory Panel on APC Groups, 7500 Security Boulevard, Mail Stop C4-05-17, Baltimore, MD 21244-1850.

Web Site: Please refer to the Internet at http://www.cms.gov/faca for additional information and updates on the Panel's activities.

Advisory Committees' Information Lines: Information Hotlines at 1-877-449-5659 (toll-free) or 410-786-9379 (local) for additional information.

FOR FURTHER INFORMATION CONTACT: Shirl Ackerman-Ross, at SAckermanross@cms.hhs.gov or call her on (410) 786-4474. News media representatives should contact the CMS Press Office, (202) 690-6145.

SUPPLEMENTARY INFORMATION:

I. Background

The Secretary of Health and Human Services (the Secretary) is required by section 1833(t)(9)(A) of the Social Security Act (the Act), as amended by section 201(h)(1)(B) and redesignated by section 202 (a)(2) of the Balanced Budget Refinement Act of 1999 (Pub. L. 106-113), to consult with an advisory panel on APC groups (the Panel). The Panel will meet up to three times annually to review the APC groups and provide technical advice to the Secretary and the Administrator of the Centers for Medicare & Medicaid Services (the Administrator) concerning the clinical integrity of the groups and their associated weights. The groups and their weights are major elements of the hospital outpatient prospective payment system (OPPS). The technical advice provided by the Panel will be considered as we prepare the annual Notice of Proposed Rulemaking that will propose changes to the OPPS for the next calendar year.

The current members of the Panel are: Michelle Burke, R.N.; Leslie Jane Collins, R.N.; Geneva Craig, R.N.; Lora A. DeWald, M.ED; Gretchen M. Evans, R.N.; Robert E. Henkin, M.D.; Lee H. Hilborne, M.D.; Stephen T. House, M.D.; Kathleen P. Kinslow, CRNA, Ed.D; Mike Metro, R.N.; Gerald V. Naccarelli, M.D; Beverly K. Philip, M.D.; Karen L. Rutledge, B.S.; William A. Van Decker, M.D., J.D., and Paul E. Wallner, D.O. The Panel Chairperson is Paul M. Rudolf, M.D, J.D., a CMS Medical officer.

The charter allows for up to 15 members plus a Chair, and we will have 6 openings as of March 31, 2003. Therefore, we are requesting nominations for members to serve on the Panel. Panel members serve without compensation, pursuant to advance written agreement; however, travel, meals, lodging, and related expenses will be reimbursed in accordance with standard government travel regulations. We have a special interest for ensuring that women, minorities, and the physically challenged are adequately represented on the Panel, and we encourage nominations of qualified candidates from those groups.

The Secretary, or his designee, will appoint new members to the Panel from among those candidates determined to have the required expertise; new appointments will be done in a manner that will ensure an appropriate balance of membership.

II. Criteria for Nominees

Qualified nominees will meet those requirements necessary to be a Panel member. Panel members must be representatives of Medicare providers (including Community Mental Health Centers) subject to the OPPS, with technical and/or clinical expertise in any of the following areas:

• Hospital payment systems.

• Hospital medical care delivery systems.

• Outpatient payment requirements.

• Ambulatory payment classification groups.

• Use of, and payment for, drugs and medical devices in an outpatient setting.

• Provision of, and payment for, partial hospitalization services.

• Any other relevant expertise.

It is not necessary that any nominee possess expertise in all of the areas listed, but each must have a minimum of 5 years experience and currently be employed full-time in his or her area of expertise. Members of the Panel serve overlapping 4-year terms, contingent upon the rechartering of the Panel.

Any interested person may nominate one or more qualified individuals. Self-nominations will also be accepted. Each nomination must include a letter of nomination, a curriculum vita of the nominee, and a statement from the nominee that the nominee is willing to serve on the Panel under the conditions described in this notice and further specified in the Charter.

III. Copies of the Charter

You may obtain a copy of the charter for the Panel by submitting a request to Shirl Ackermann-Ross, CMS, CMM, HAPG, DOC, 7500 Security Boulevard, Mail Stop C4-05-17, Baltimore, MD 21244, (410) 786-4474, or e-mail the request to SAckermanross@cms.hhs.gov. A copy of the charter is also available on the Internet at http://www.cms.hhs.gov/faca.

Authority: Section 1833(t)(9)(A) of the Social Security Act (42 U.S.C. 13951(t)(9)(A)) and section 10(a) of Pub. L. 92-463 (5 U.S.C. App. 2).

Dated: February 25, 2003.
Thomas A. Scully,
Administrator, Centers for Medicare & Medicaid Services.

[FR Doc. 03-4804 Filed 2-27-03; 8:45 am]

BILLING CODE 4120-01-P